DEPARTMENT OF HOMELAND SECURITY

Federal Emergency Management Agency

[Docket ID FEMA-2020-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Colorado:
Larimer (FEMA Docket No.: B-2021) | City of Fort Collins (19-08-0751P) | The Honorable Wade Troxell Mayor, City of Fort Collins, P.O. Box 580, Fort Collins, CO 80522 | Utilities Department, 700 Wood Street, Fort Collins, CO 80522 | Jun. 15, 2020 | 080102
Larimer (FEMA Docket No.: B-2021) | Unincorporated areas of Larimer County (19-08-0751P) | The Honorable Steve Johnson, Chairman, Larimer County Board of Commissioners, 200 West Oak Street, Fort Collins, CO 80521 | Larimer County Engineering Department, 200 West Oak Street, 3rd Floor, Fort Collins, CO 80521 | Jun. 15, 2020 | 080101
Florida:
Monroe (FEMA Docket No.: B-2021) | Village of Islamorada (20-04-0572P) | The Honorable Mike Forster, Mayor, Village of Islamorada, 86800 Overseas Highway, Islamorada, FL 33036 | Building Department, 86800 Overseas Highway, Islamorada, FL 33036 | Jun. 18, 2020 | 120424
Orange (FEMA Docket No.: B-2021) | City of Orlando (19-04-3438P) | The Honorable Buddy Dyer, Mayor, City of Orlando, 400 South Orange Avenue, Orlando, FL 32801 | City Hall, 400 South Orange Avenue, Orlando, FL 32801 | Jun. 17, 2020 | 120186
Volusia (FEMA Docket No.: B-2021) | City of New Smyrna Beach (19-04-6280P) | The Honorable Russ Owen, Mayor, City of New Smyrna Beach, 210 Sams Avenue, New Smyrna Beach, FL 32168 | Engineering Department, 2650 North Dixie Freeway, New Smyrna Beach, FL 32168 | Jun. 26, 2020 | 125132
Georgia: Bryan (FEMA Docket No.: B-2021) | Unincorporated areas of Bryan County (19-04-3361P) | Mr. Carter Infinger, Chairman, Bryan County Board of Commissioners, P.O. Box 430, Pembroke, GA 31321 | Bryan County Department of Community Development, 66 Captain Matthew Freeman Drive, Suite 201, Richmond Hill. GA 31324 | Jun. 19, 2020 | 130016
Montana:
Butte-Silver Bow (FEMA Docket No.: B-2021) | Unincorporated areas of Butte-Silver Bow County (19-08-0805P) | The Honorable Dave Palmer, Chief Executive, Butte-Silver Bow County, 155 West Granite Street, Room 106, Butte, MT 59701 | Butte-Silver Bow County Planning Department, 155 West Granite Street, Room 108, Butte, MT 59701 | Jun. 25, 2020 | 300077
Gallatin (FEMA Docket No.: B-2021) | City of Bozeman (19-08-0850P) | Mr. Dennis M. Taylor, City of Bozeman Manager, P.O. Box 1230, Bozeman, MT 59771 | City Hall, 20 East Olive Street, Bozeman, MT 59715 | Jun. 22, 2020 | 300028
Gallatin Montana: Gallatin (FEMA Docket No.: B-2021) | Unincorporated areas of Gallatin County (19-08-0850P) | The Honorable Joe P. Skinner, Chairman, Gallatin County Commission, 311 West Main Street, Room 306, Bozeman, MT 59715 | Gallatin County Department of Planning and Community Development, 311 West Main Street, Room 108, Bozeman, MT 59715 | Jun. 22, 2020 | 300027
North Dakota: Cass (FEMA Docket No.: B-2021) | City of Fargo (19-08-0515P) | The Honorable Tim Mahoney, Mayor, City of Fargo, 225 4th Street North, Fargo, ND 58102 | City Hall, 225 4th Street North, Fargo, ND 58102 | Jun. 9, 2020 | 385364
Oklahoma: Tulsa (FEMA Docket No.: B-2023) | City of Tulsa (19-06-3205P) | The Honorable G.T. Bynum, Mayor, City of Tulsa, 175 East 2nd Street, Tulsa, OK 74103 | Development Services Department, 175 East 2nd Street, Suite 450, Tulsa, OK 74103 | Jun. 25, 2020 | 405381
Pennsylvania:
Lancaster (FEMA Docket No.: B-2021) | Township of East Hempfield (19-03-0983P) | The Honorable H. Scott Russell, Chairman, Township of East Hempfield Board of Supervisors, 1700 Nissley Road, Landisville, PA 17538 | Township Hall, 1700 Nissley Road, Landisville, PA 17538 | Jun. 23, 2020 | 420548
Montgomery (FEMA Docket No.: B-2021) | Township of Whitemarsh (19-03-1803P) | The Honorable Laura Boyle-Nester, Chair, Township of Whitemarsh Board of Supervisors, 616 Germantown Pike, Lafayette Hill, PA 19444 | Township Hall, 616 Germantown Pike, Lafayette Hill, PA 19444 | Jun. 23, 2020 | 420712
South Carolina: Georgetown (FEMA Docket No.: B-2021) | Unincorporated areas of Georgetown County (19-04-6539P) | Mr. Sel Hemingway, Georgetown County Administrator, 716 Prince Street, Georgetown, SC 29440 | Georgetown County Building Department, 129 Screven Street, Georgetown, SC 29440 | Jun. 11, 2020 | 450085
Tennessee:
Shelby (FEMA Docket No.: B-2023) | Town of Collierville (18-04-7494P) | The Honorable Stan Joyner, Jr., Mayor, Town of Collierville, 500 Poplar View Parkway, Collierville, TN 38017 | Department of Public Services, 500 Keough Road, Collierville, TN 38017 | May 8, 2020 | 470263
Shelby (FEMA Docket No.: B-2023) | Unincorporated areas of Shelby County (18-04-7494P) | The Honorable Lee Harris, Mayor, Shelby County, 160 North Main Street, Memphis, TN 38103 | Shelby County Department of Engineering, 6463 Haley Road, Memphis, TN 38134 | May 8, 2020 | 470214
Texas:
Bell (FEMA Docket No.: B-2023) | City of Harker Heights (18-06-3437P) | The Honorable Spencer H. Smith, Mayor, City of Harker Heights, 305 Millers Crossing, Harker Heights, TX 76548 | Building and Permits Department, 305 Millers Crossing, Harker Heights, TX 76548 | Jun. 17, 2020 | 480029
Bexar (FEMA Docket No.: B-2023) | City of San Antonio (19-06-1390P) | The Honorable Ron Nirenberg, Mayor, City of San Antonio, P.O. Box 839966, San Antonio, TX 78283 | Transportation and Capitol Improvements Department, Storm Water Division, 114 West Commerce Street, 7th Floor, San Antonio, TX 78205 | Jun. 22, 2020 | 480045
Bexar (FEMA Docket No.: B-2023) | Unincorporated areas of Bexar County (19-06-3386P) | The Honorable Nelson W. Wolff, Bexar County Judge, 101 West Nueva Street, 10th Floor, San Antonio, TX 78205 | Bexar County Public Works Department, 1948 Probandt Street, San Antonio, TX 78214 | Jun. 15, 2020 | 480035
El Paso (FEMA Docket No.: B-2023) | City of El Paso (19-06-2053P) | Mr. Tommy Gonzalez, Manager, City of El Paso, 300 North Campbell Street, El Paso, TX 79901 | Development Department, 801 Texas Avenue, El Paso, TX 79901 | Jun. 16, 2020 | 480214
El Paso (FEMA Docket No.: B-2023) | Unincorporated areas of El Paso County (19-06-2053P) | The Honorable Ricardo A. Samaniego, El Paso County Judge, 500 East San Antonio Street, Suite 301, El Paso, TX 79901 | El Paso County Public Works Department, 800 East Overland Avenue, Suite 200, El Paso, TX 79901 | Jun. 16, 2020 | 480212
Kendall (FEMA Docket No.: B-2023) | Unincorporated areas of Kendall County (19-06-2192P) | The Honorable Darrel L. Lux, Kendall County Judge, 201 East San Antonio Avenue, Suite 122, Boerne, TX 78006 | Kendall County Engineering Department, 201 East San Antonio Avenue, Suite 101, Boerne, TX 78006 | Jun. 24, 2020 | 480417
Tarrant (FEMA Docket No.: B-2021) | City of Fort Worth (19-06-3049P) | The Honorable Betsy Price, Mayor, City of Fort Worth, 200 Texas Street, Fort Worth, TX 76102 | Transportation and Public Works, Engineering Department, 200 Texas Street, Fort Worth, TX 76102 | Jun. 18, 2020 | 480596
Travis (FEMA Docket No.: B-2021) | City of Austin (19-06-1200P) | The Honorable Stephen Adler, Mayor, City of Austin, P.O. Box 1088, Austin, TX 78767 | Watershed Protection Department, 505 Barton Springs Road, 12th Floor, Austin, TX 78704 | Jun. 29, 2020 | 480624
Virginia: Prince William (FEMA Docket No.: B-2021) | Unincorporated areas of Prince William County (19-03-0954P) | Mr. Christopher E. Martino, Prince William County Executive, 1 County Complex Court, Prince William, VA 22192 | Prince William County Department of Public Works, 5 County Complex Court, Prince William, VA 22192 | Jun. 18, 2020 | 510119

[FR Doc. 2020-15368 Filed 7-15-20; 8:45 am]

BILLING CODE 9110-12-P